DEPARTMENT OF TRANSPORTATION

Federal Highway Administration

Environmental Impact Statement, San Diego County, CA

AGENCY: Federal Highway Administration (FHWA), DOT.

ACTION: Notice of withdrawal.

SUMMARY: The FHWA is issuing this notice to advise the public that the Notice of Intent to prepare an Environmental Impact Statement (EIS) for the proposed Interstate I-805 Managed Lanes South Project located in the cities of San Diego and Chula Vista in San Diego County (Federal Register Vol. 72, No 176; FR Doc E7-17912), California will be withdrawn, and an Environmental Assessment (EA) in lieu of an EIS is being prepared for this proposed highway project.

FOR FURTHER INFORMATION CONTACT: David Nagy, Chief, Environmental Branch B, California Department of Transportation—District 11, 4050 Taylor Street, San Diego, CA 92110, 619-688-0224, David.L.Nagy@dot.ca.gov.

SUPPLEMENTARY INFORMATION: The Federal Highway Administration (FHWA), on behalf of the California Department of Transportation (Caltrans), is advising the general public that Caltrans conducted studies of the potential environmental impacts associated with the proposed highway project. The I-805 Managed Lanes South Project is located in southern San Diego County, from just south of East Palomar Street, in the City of Chula Vista, continuing north through the I-805/SR-15 Freeway Interchange to Landis Street Overcrossing in the City of San Diego. The project proposes to construct buffer separated High Occupancy Vehicle/Transit lanes in the freeway median with auxiliary lanes at various points along the freeway. The project covers a distance of approximately 11.4 miles. Existing overcrossing and undercrossing structures within the project limits may be modified or replaced. Retaining walls will be placed along the route at appropriate locations to minimize right-of-way impacts. Noise barriers may also be placed at some locations within the project limits.

Additional transit features consist of in-line transit stations at H Street Overcrossing in the City of Chula Vista and at Plaza Boulevard Undercrossing in the City of National City as well as a direct access ramp (DAR) at East Palomar Street OC in the City of Chula Vista. Also included is an HOV/Transit direct connection ramp at SR-15.

The proposed DAR at East Palomar Street is also the southern terminus for the Managed Lanes Project. DARs will only be located on the north side of East Palomar Street. In the I-805 median, both northbound and southbound, four 12-ft PCC lanes will be constructed, two in each direction, separated by Type 60 concrete barrier. In each direction, 10-ft PCC inside shoulders will be adjacent to the concrete barrier. A 4-ft buffer will separate the HOV/Transit Lanes from the single occupancy lanes (main lanes).

Three alternatives, including the No-build Alternative, are being analyzed as part of the Draft EA. The alternatives are defined as follows: Alternative 1—construct buffer separated High Occupancy Vehicle/Transit lanes in the freeway median with auxiliary lanes; Alternative 2— proposes to construct only two HOV/Transit lanes between East Palomar Street and Telegraph Canyon Road, North of Telegraph Canyon Road, the proposed project would be identical to Alternative 1; Alternative 3—No-build Alternative.

The EA will be available for public inspection prior to the public meeting. Comments or questions concerning this proposed action and the determination that an EA is the proper environmental document should be directed to Caltrans at the address provided above.

(Catalog of Federal Domestic Assistance Program Number 20.205, Highway Research Planning and Construction. The regulations implementing Executive Order 12372 regarding intergovernmental consultation on Federal programs and activities apply to this program.)

Issued on: December 2, 2009.
David Tedrick,
Local Agency Programs Team Leader, South, Federal Highway Administration, Sacramento, California.

[FR Doc. E9-29185 Filed 12-7-09; 8:45 am]

BILLING CODE 4910-RY-P